DEPARTMENT OF AGRICULTURE

Animal and Plant Health Inspection Service

[Docket No. APHIS-2020-0035]

Notice of Availability of an Environmental Assessment for Release of Bikasha collaris and Gadirtha fusca for Biological Control of Chinese Tallow

AGENCY: Animal and Plant Health Inspection Service, USDA.

ACTION: Notice of availability.

SUMMARY: We are advising the public that the Animal and Plant Health Inspection Service has prepared an environmental assessment relative to permitting the release of the insects Bikasha collaris and Gadirtha fusca for biological control of Chinese tallow tree (Triadica sebifera) in the contiguous United States. Based on the environmental assessment and other relevant data, we have reached a preliminary determination that the release of this control agent will not have a significant impact on the quality of the human environment. We are making the environmental assessment available to the public for review and comment.

DATES: We will consider all comments that we receive on or before February 22, 2021.

ADDRESSES: You may submit comments by either of the following methods:

• Federal eRulemaking Portal: Go to http://www.regulations.gov/#!docketDetail;D=APHIS-2020-0035.

• Postal Mail/Commercial Delivery: Send your comment to Docket No. APHIS-2020-0035, Regulatory Analysis and Development, PPD, APHIS, Station 3A-03.8, 4700 River Road Unit 118, Riverdale, MD 20737-1238.

Supporting documents and any comments we receive on this docket may be viewed at http://www.regulations.gov/#!docketDetail;D=APHIS-2020-0035 or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road Unit 133, Riverdale, MD 20737; (301) 851-2327; email: Colin.Stewart@usda.gov.

SUPPLEMENTARY INFORMATION: Chinese tallow, native to China, is one of the most aggressive and widespread invasive weeds in the Southeastern United States; it grows as a large shrub, or a medium-height but large diameter tree, up to 60 feet tall and 3 feet in diameter with dark green bark and hairless leaves. Since its introduction, the weed has been reported primarily in 10 States including North Carolina, South Carolina, Georgia, Florida, Alabama, Mississippi, Louisiana, Arkansas, Texas, and California. Tallow invasions alter species composition, community structure, and ecosystem processes in many native habitats.

Bikasha collaris is a small beetle. Adults are about 2 millimeters long and feed on tallow leaves, young stems, and even woody stems. In nature, females lay eggs on the soil surface at the base of plants. Larvae hatch and tunnel into the ground and feed on the roots of tallow plants. Gadirtha fusca is a small moth with adults about 2 centimeters long. Eggs are usually laid individually on leaves, and early and late instar larvae feed externally on leaves.

The Animal and Plant Health Inspection Service's (APHIS') review and analysis of the potential environmental impacts associated with the proposed release are documented in detail in an environmental assessment (EA) entitled “Field Release of the Insects Bikasha collaris (Coleoptera: Chrysomelidae) and Gadirtha fusca (Lepidoptera: Nolidae) for Classical Biological Control of Chinese Tallow Tree in the Contiguous United States” (April 2020). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 13th day of January 2021.
Mark Davidson,
Acting Administrator, Animal and Plant Health Inspection Service.

[FR Doc. 2021-01124 Filed 1-19-21; 8:45 am]

BILLING CODE 3410-34-P